DEPARTMENT OF HEALTH AND HUMAN SERVICES

National Institutes of Health

Office of the Secretary; Amended Notice of Meeting

Notice is hereby given of a change in the Interagency Pain Research Coordinating Committee meeting on November 18, 2019, 08:30 a.m. to 05:00 p.m., Building 35A, Porter Neuroscience Center, Room 610, 35 Convent Drive, Bethesda, MD 20892, which was published in the Federal Register on October 18, 2019, 84 FR 55974.

The meeting notice is amended to change the meeting agenda from the meeting will include discussions of committee business items including information about the NIH HEAL Initiative and an update on the Pain Management Best Practices Interagency Task Force to The meeting will include discussions of committee business items including the SUPPORT act, an update on the NIH HEAL Initiative and pain initiatives outside of the NIH.

The meeting is open to the public.

Dated: November 12, 2019.
Sylvia L. Neal,
Program Analyst, Office of Federal Advisory Committee Policy.

[FR Doc. 2019-24849 Filed 11-15-19; 8:45 am]

BILLING CODE 4140-01-P